DEPARTMENT OF THE INTERIOR

Bureau of Land Management

[AZ-930-1430-01;AZA-31344]

Notice of Proposed Withdrawal; Arizona

AGENCY: Bureau of Land Management, Interior.

ACTION: Notice.

SUMMARY: The Secretary of the Interior proposes to withdraw approximately 299,952.41 acres of Federal lands and minerals to protect the native biodiversity and the ecological richness of the Paria Plateau area in northwestern Arizona. This notice segregates the lands described below for up to 2 years from location and entry under the general land laws, including the mining laws. The lands will remain open to mineral leasing.

FOR FURTHER INFORMATION CONTACT: Becky Hammond, Bureau of Land Management, Arizona Strip Field Office, 345 E. Riverside Drive, St. George, Utah 84790, 435-688-3200.

SUPPLEMENTARY INFORMATION: The purpose of the proposed withdrawal is to temporarily protect the native biodiversity and the ecological richness of the Paria Plateau area while the lands are under study for a possible national monument designation. The proposal, if finalized, would withdraw the following described Federal lands and minerals from location and entry under the general land laws, including the mining laws, but not the mineral leasing laws, subject to valid existing rights.

Gila and Salt River Meridian
| Acres
T. 38 N., R. 3 E., |
Sec. 1, lots 1 to 4, inclusive, S½NE¼, and SE¼NW¼; | 280.16
Sec. 2, lot 1 (State Surface and Subsurface) | 40.10
T. 38 N., R. 4 E., |
Sec. 1, lots 1 to 4, inclusive, S½N½, and S½; | 640.72
Sec. 2, lots 1 to 4, inclusive, S½N½, and S½; | 641.32
Sec. 3, lots 1 to 4, inclusive, S½N½, and S½; | 641.20
Sec. 4, lots 1 to 4, inclusive, S½N½, and S½; | 641.00
Sec. 5, lots 1 to 4, inclusive, S½N½, and S½; | 640.80
Sec. 6, lots 1 to 6, inclusive, S½NE¼, SE¼NW¼, NE¼SW¼, and SE¼; | 557.81
Sec. 8, N½NE¼; | 80.00
Sec. 9, NE¼, N½NW¼, and SE¼NW¼; | 280.00
Sec. 10, N½, NE¼SW¼, and N½SE¼; | 440.00
Secs. 11 and 12; | 1,280.00
Sec. 13, N½N½ and SE¼NE¼; | 200.00
T. 38 N., R. 5 E., |
Sec. 1, lots 1 to 4, inclusive, S½N½, and S½; | 640.40
Sec. 2, lots 1 to 4, inclusive, S½N½, and S½; | 641.08
Sec. 3, lots 1 to 4, inclusive, S½N½, and S½; | 641.32
Sec. 4, lots 1 to 4, inclusive, S½N½, and S½; | 640.88
Sec. 5, lots 1 to 8, inclusive, S½NE¼, SE¼NW¼, W½SW¼, N½SE¼, and SE¼SE¼; | 624.54
MS2118A and MS2118B; (Private Surface and Subsurface) | 16.66
Sec. 6, lots 3 to 8, inclusive, SE¼NW¼, SE¼SW¼, and SE½; | 469.51
Lots 1 and 2, MS2118B, SW¼NE¼, and NE¼SW¼; (Private Surface and Subsurface) | 163.67
Sec. 7, lots 1 to 4, inclusive, E½, and E½W½; | 633.32
Sec. 8, lot 1, W½NE¼, W½, and SE¼; | 594.94
Lot 2, and MS2141; (Private Surface and Subsurface) | 45.10
Sec. 9, lots 1 and 2, E½, E½NW¼, and SW¼; | 634.48
MS2141; (Private Surface and Subsurface) | 3.56
Secs. 10, 11, and 12; | 1,920.00
Sec. 13, N½NE¼, SW¼NE¼, NW¼, and N½SW¼; | 360.00
Secs. 14, 15, and 16; | 1,920.00
Sec. 17, N½, N½SW¼, and SE¼; | 560.00
Sec. 18, lots 1 and 2, NE¼, E½NW¼, and NE¼SE¼; | 356.77
Sec. 21, N½NE¼; | 80.00
Sec. 22, N½N½; | 160.00
Sec. 23, NW¼NW¼ | 40.00
T. 38 N., R. 6 E., |
Sec. 4, lots 3 and 4, SW¼NW¼; | 119.94
Sec. 5, lots 1 to 4, inclusive, S½N½, SW¼, N½SE¼, and SW¼SE¼; | 600.08
Sec. 6, lots 1 to 7, inclusive, S½NE¼, SE¼NW¼, E½SW¼, and SE¼; | 632.54
Sec. 7, lots 1 to 4, inclusive, E½W½ and E½; | 633.40
Sec. 8, N½NW¼, SW¼NW¼ and NW¼SW¼; | 160.00
Sec. 18, lot 4. | 38.57
T. 39 N., R. 3 E.,
Sec. 1, lots 1 to 4 inclusive, S½N½, and S½; | 640.36
Sec. 2, lots 1 to 6, inclusive, S½N½, E½SW¼, and SE¼; | 636.14
MS2140; (Private Surface and Subsurface) | 5.39
Sec. 3, lots 1 to 6, inclusive, S½N½, SW¼, and NW¼SE¼; | 592.37
MS2140 and SW¼SE¼; (Private Surface and Subsurface) | 50.11
Sec. 4, SE¼; | 160.00
Sec. 9, NE¼, N½SE¼, and SE¼SE¼; | 280.00
Sec. 10, N½NE¼, SW¼NE¼, W½, and SE¼; | 600.00
SE¼NE¼; (Private Surface and Subsurface) | 40.00
Sec. 11, N½; W½SW¼, N½SE¼, and SE¼SE¼; | 520.00
E½SW¼ and SW¼SE¼; (Private Surface and Subsurface) | 120.00
Secs. 12 and 13; | 1,280.00
Sec. 14, E½NE¼, SW¼NE¼, W½, and SE¼; | 600.00
NW¼NE¼; (Private Surface and Subsurface) | 40.00
Sec. 15, E½SE¼; | 80.00
Sec. 22; E½ and S½NW¼; | 400.00
Secs. 23, 24, 25, and 26; | 2,560.00
Sec. 27, E½; | 320.00
Sec. 35, N½, W½SW¼, NE¼SW¼, E½SE¼SW¼, SE¼SE¼SW¼, N½SE¼, and SE¼SE¼; | 590.00
Sec. 36. | 640.00
T. 39 N., R. 4 E.,
Sec. 1, lots 1 to 4, inclusive, S½N½, and S½; | 640.28
Sec. 2, lots 1 to 4, inclusive, S½N½, and S½; | 640.76
Sec. 3, lots 1 to 4, inclusive, S½N½, and S½; | 641.04
Sec. 4, lots 1 to 4, inclusive, S½N½, and S½; | 640.72
Sec. 5, lots 1 to 4, inclusive, S½N½, and S½; | 640.56
Sec. 6, lots 1 to 7, inclusive, S½NE¼, SE¼NW¼, E½SW¼, and SE¼; | 635.01
Sec. 7, lots 1 to 4, inclusive, E½, and E½W½; | 634.96
Secs. 8, 9, 10, 11, 12, 13, 14, 15, 16, and 17; | 6,400.00
Sec. 18, lots 1 to 4, inclusive, E½, and E½W½; | 635.72
Sec. 19, lots 1 to 4, inclusive, E½, and E½W½; | 635.84
Secs. 20, 21, 22, 23, 24, 25, 26, 27, 28, and 29; | 6,400.00
Sec. 30, lots 1 to 4, inclusive, E½, and E½W½; | 635.66
Sec. 31, lots 1 to 4, inclusive, E½, and E½W½; | 636.32
Secs. 32, 33, 34, 35, and 36. | 3,200.00
T. 39 N., R. 5 E.,
Sec. 1, lots 1 to 4, inclusive, S½N½, and S½; | 639.32
Sec. 2, lots 1 to 4, inclusive, S½N½, and S½; | 639.16
Sec. 3, lots 1 to 4, inclusive, S½N½, and S½; | 639.76
Sec. 4, lots 1 to 4, inclusive, S½N½, and S½; | 639.96
Sec. 5, lots 1 to 4, inclusive, S½N½, and S½; | 640.72
Sec. 6, lots 1 to 7, inclusive, S½NE¼, SE¼NW¼, E½SW¼, and SE¼; | 627.92
Sec. 7, lots 1 to 4, inclusive, E½, and E½W½; | 628.76
Secs. 8, 9, 10, 11, 12, 13, 14, and 15; | 5,120.00
Sec. 16, N½, SW¼, N½SE¼, and SW¼SE¼; | 640.00
SE¼SE¼; (State Surface and Subsurface) | 40.00
Sec. 17; (State Surface) | 640.00
Sec. 18, lots 1 to 4, inclusive, E½, and E½W½; (State Surface) | 630.36
Sec. 19, lots 1 to 4, inclusive, E½, and E½W½; | 630.68
Secs. 20, 21, 22, 23, 24, 25, 26, 27, 28, and 29; | 6,400.00
Sec. 30, lots 1 to 4, inclusive, E½, and E½W½; | 630.92
Sec, 31, lots 1 to 4, inclusive, E½, and E½W½; | 631.36
Secs. 32, 33, 34, 35, and 36. | 3,200.00
T. 39 N., R. 6 E.,
Sec. 1, lots 1 to 4, inclusive, S½N½, and S½; | 639.64
Sec. 2, lots 1 to 4, inclusive, S½N½, and S½; | 639.47
Sec. 3, lots 1 to 4, inclusive, S½N½, and S½; | 640.48
Sec. 4, lots 1 to 4, inclusive, S½N½, and S½; | 640.32
Sec. 5, lots 1 to 4, inclusive, S½N½, and S½; | 639.66
Sec. 6, lots 1 to 7, inclusive, S½NE¼, SE¼NW¼, E½SW¼, and SE¼; | 627.52
Sec. 7, lots 1 to 4, inclusive, E½, and E½W½; | 628.72
Secs. 8, 9, 10, 11, 12, 13, 14, 15, 16, and 17; | 6,400.00
Sec. 18, lots 1 to 4, inclusive, E½, and E½W½; | 629.76
Sec. 19, lots 1 to 4, inclusive, E½, and E½W½; | 630.04
Secs. 20, 21, 22, and 23; | 2,560.00
Sec. 24, W½NE¼, NW¼, and W½SW¼; | 320.00
Sec. 26, N½NE¼, SW¼NE¼, NW¼, and NW¼SW¼; | 320.00
Sec. 27, N½, SW¼, and N½SE¼; | 560.00
Sec. 28, NE¼, E½NW¼, NW¼NW¼, and NW¼SE¼; | 320.00
Sec. 29; | 640.00
Sec. 30, lots 1 to 4, inclusive, E½, and E½W½; | 630.16
Sec. 31, lots 1 to 4, inclusive, E½, and E½W½; | 630.84
Sec. 32; | 640.00
Sec. 33, SW¼NE¼, S½NW¼, SW¼, and NW¼SE¼. | 320.00
T. 39 N., R. 7 E., |
Sec. 4, lot 4 and SW¼NW¼; | 79.84
Sec. 5, lots 1 to 4, inclusive, S½N½, N½SW¼, SW¼SW¼, and NW¼SE¼; | 479.24
Sec. 6, lots 1 to 7, inclusive, S½NE¼, SE¼NW¼, E½SW¼, and SE¼; | 627.01
Sec, 7, lots 1 to 5, inclusive, NE¼, E½W½, and NW¼SE¼; | 508.70
Sec. 18, lots 2 and 3, SE¼NW¼ | 114.78
T. 40 N., R. 3 E., |
Sec. 1, lots 1 to 4, inclusive, S½N½, and S½; | 638.80
Sec. 2, lots 1 to 4, inclusive, S½N½, and S½; | 638.68
Sec. 3, lots 1 and 2, S½NE¼, and SE¼; | 319.44
Sec. 10, E½; | 320.00
Secs. 11, 12, 13, and 14; | 2,560.00
Sec. 15, E½; | 320.00
Sec. 22, E½; | 320.00
Secs. 23, 24, 25, and 26; | 2,560.00
Sec. 27, E½, SE¼NW¼, and E½SW¼; | 440.00
Sec. 34, N½, SW¼, W½SE¼, and SE¼SE¼; | 600.00
NE¼SE¼; (Private Surface and Subsurface) | 40.00
Sec. 35; | 640.00
Sec. 36; N½ and SW¼; | 480.00
SE¼ (State Surface and Subsurface) | 160.00
T. 40 N., R. 4 E., |
Sec. 1, lots 1 to 4, inclusive, S½N½, and S½; | 640.20
Sec. 2, lots 1 to 4, inclusive, S½N½, and S½; | 639.88
Sec. 3, lots 1 to 4, inclusive, S½N½, and S½; | 639.60
Sec. 4, lots 1 to 4, inclusive, S½N½, and S½; | 639.48
Sec. 5, lots 1 to 4, inclusive, S½N½, and S½; | 639.76
Sec. 6, lots 1 to 7, inclusive, S½NE¼, SE¼NW¼, E½SW¼, and SE¼; | 631.08
Sec. 7, lots 1 to 4, inclusive, E½, and E½W½; | 632.76
Secs. 8, 9, 10, 11, 12, 13, 14, 15, 16, and 17; | 6,400.00
Sec. 18, lots 1 to 4, inclusive, E½, and E½W½; | 633.40
Sec. 19, lots 1 to 4, inclusive, E½, and E½W½; | 634.08
Secs. 20, 21, 22, 23, 24, 25, 26, 27, 28, and 29; | 6,400.00
Sec. 30, lots 1 to 4, inclusive, E½, and E½W½; | 634.96
Sec. 31, lots 1 to 4, inclusive, E½, and E½W½; | 634.92
Secs. 32, 33, 34, and 35; | 2,560.00
Sec. 36. | 640.00
T. 40 N., R. 5 E., |
Sec. 1, lots 1 to 4, inclusive, S½N½, and S½; (State Surface) | 644.76
Sec. 2, lots 1 to 4, inclusive, S½N½, and S½; (State Surface and Subsurface) | 643.20
Sec. 3, lots 1 to 4, inclusive, S½N½, and S½; | 642.32
Sec. 4, lots 1 to 4, inclusive, S½N½, and S½; | 641.92
Sec. 5, lots 1 to 4, inclusive, S½N½, and S½; | 641.16
Sec, 6, lots 1 to 7, inclusive, S½NE¼, SE¼NW¼, E½SW¼, and SE¼; | 642.23
Sec. 7, lots 1 to 4, inclusive, E½, and E½W½; | 642.20
Secs. 8, 9, and 10; | 1,920.00
Secs. 11 and 12; (State Surface) | 1,280.00
Secs. 13, 14, and 15; | 1,920.00
Sec. 16; | 640.00
Sec. 17; | 640.00
Sec. 18, lots 1 to 4, inclusive, E½, and E½W½; | 624.92
Sec. 19, lots 1 to 4, inclusive, E½, and E½W½; | 624.80
Secs. 20, 21, 22, 23, and 24; | 3,200.00
Sec. 25; (State Surface) | 640.00
Secs. 26, 27, 28, and 29; | 2,560.00
Sec. 30, lots 1 to 4, inclusive, E½, and E½W½; | 625.20
Sec. 31, lots 1 to 4, inclusive, E½, and E½W½; | 626.44
Sec. 32; | 640.00
Secs. 33, 34, and 35; | 1,920.00
Sec. 36 (State Surface and Subsurface) | 640.00
T. 40 N., R. 6 E., |
Sec. 1, lots 1 to 4, inclusive, S½N½, and S½; | 646.04
Sec. 2, lots 1 to 4, inclusive, S½N½, and S½; (State Surface and Subsurface) | 646.84
Sec. 3, lots 1 to 4, inclusive, S½N½, and S½; | 646.84
Sec. 4, lots 1 to 4, inclusive, S½N½, and S½; | 646.64
Sec. 5, lots 1 to 4, inclusive, S½N½, and S½; | 645.76
Sec, 6, lots 1 to 7, inclusive, S½NE¼, SE¼NW¼, E½SW¼, and SE¼; | 628.23
Sec. 7, lots 1 to 4, inclusive, E½, and E½W½; | 623.60
Secs. 8, 9, 10, 11, 12, 13, 14, and 15; | 5,120.00
Sec. 16; | 640.00
Sec. 17; | 640.00
Sec. 18, lots 1 to 4, inclusive, E½, and E½W½; | 623.44
Sec. 19, lots 1 to 4, inclusive, E½, and E½W½; | 624.16
Secs. 20, 21, 22, 23, 24, 25, 26, 27, and 28; | 5,760.00
Sec. 29, N½ and N½S½; | 480.00
S½S½; (State Surface) | 160.00
Sec. 30, lots 1 to 4, inclusive, E½, and E½W½; (State Surface) | 625.40
Sec. 31, lots 1 to 4, inclusive, N½NE¼, SE¼NE¼, NE¼NW¼, SE¼SW¼, S½SE¼, and NE¼SE¼; (State Surface) | 466.60
SW¼NE¼, SE¼NW¼, NE¼SW¼, and NW¼SE14; (Private Surface and Subsurface) | 160.00
Sec. 32 (State Surface and Subsurface) | 640.00
Secs. 33, 34, 35, and 36. | 2,560.00
T. 40 N., R. 7 E., |
Sec. 1, lots 1 to 4, inclusive, S½N½, and S½; | 645.48
Sec. 2, lots 1 to 4, inclusive, S½N½, and S½; | 646.12
Sec. 3, lots 1 to 4, inclusive, S½N½, and S½; | 647.00
Sec. 4, lots 1 to 4, inclusive, S½N½, and S½; | 639.48
Sec. 5, lots 1 to 4, inclusive, S½N½, and S½; | 646.48
Sec. 6, lots 1 to 7, inclusive, S½NE¼, SE¼NW¼, E½SW¼, and SE¼; | 628.72
Sec. 7, lots 1 to 4, inclusive, E½, and E½W½; | 624.36
Secs. 8, 9, and 10; | 1,920.00
Secs. 16 and 17; | 1,280.00
Sec. 18, lots 1 to 4, inclusive, E½, and E½W½; | 625.28
Sec. 19, lots 1 to 4, inclusive, E½, and E½W½; | 625.60
Sec. 20; | 640.00
Sec. 21, N½ and SW¼; | 480.00
Sec. 29; | 640.00
Sec. 30, lots 1 to 4, inclusive, E½, and E½W½; | 626.16
Sec. 31, lots 1 to 4, inclusive, E½, and E½W½; | 626.72
Sec. 32; | 640.00
Sec. 33, S½SW¼ | 80.00
T. 40 N., R. 8 E.,
Sec. 6 | 640.00
T. 41 N., R. 3 E.,
Sec. 1, lots 1 to 4, inclusive, S½N½, and S½; | 639.88
Sec. 11, SE¼NE¼, E½SE¼, and SW¼SE¼; | 160.00
Secs. 12 and 13; | 1,280.00
Sec. 14, NE¼, SE¼NW¼, and S½; | 520.00
Sec. 15, E½SE¼SE¼; | 20.00
Sec. 22, E½NE¼, and SE¼; | 240.00
Secs. 23, 24, 25, and 26; | 2,560.00
Sec. 27, E½E½; | 160.00
Sec. 34, SE¼SE¼SE¼; | 10.00
Sec. 35; | 640.00
Sec. 36 (State Surface and Subsurface) | 640.00
T. 41 N., R. 4 E.,
Sec. 1, lots 1 to 4, inclusive, S½N½, and S½; | 639.36
Sec. 2, lots 1 to 4, inclusive, S½N½, and S½;(State Surface and Subsurface) | 639.08
Sec. 3, lots 1 to 4, inclusive, S½N½, and S½; | 639.08
Sec. 4, lots 1 to 4, inclusive, S½N½, and S½; | 638.52
Sec. 5, lots 1 to 4, inclusive, S½N½, and S½; | 638.48
Sec. 6, lots 1 to 7, inclusive, S½NE¼, SE¼NW¼, E½SW¼, and SE¼; | 636.99
Sec. 7, lots 1 to 4, inclusive, E½, and E½W½; | 637.60
Secs. 8, 9, 10, 11, 12, 13, 14, 15, 16, and 17; | 6,400.00
Sec. 18, lots 1 to 4, inclusive, E½, and E½W½; | 638.00
Sec. 19, lots 1 to 4, inclusive, E½, and E½W½; | 639.44
Secs. 20, 21, 22, 23, 24, 25, 26, 27, 28, and 29; | 6,400.00
Sec. 30, lots 1 to 4, inclusive, E½, and E½W½; | 639.16
Sec. 31, lots 1 to 4, inclusive, E½, and E½W½; | 639.24
Sec. 32; (State Surface and Subsurface) | 640.00
Sec. 33, 34, and 35; | 1,920.00
Sec. 36 (State Surface and Subsurface) | 640.00
T. 41 N., R. 5 E.,
Sec. 1, N½ (unsurveyed) and S½; | 640.00
Sec. 2, N½ (unsurveyed) and S½; | 639.00
Sec. 3, N½ (unsurveyed) and S½; | 638.00
Sec. 4, lots 1 and 2, NE¼ (unsurveyed), S½NW¼, and S½; | 637.60
Sec. 5, lots 1 to 4, inclusive, S½N½, and S½; | 637.40
Sec. 6, lots 1 to 7, inclusive, S½NE¼, SE¼NW¼, E½SW¼, and SE¼; | 635.77
Sec. 7, lots 1 to 4, inclusive, E½, and E½W½; | 637.36
Secs. 8, 9, 10, 11, 12, 13, 14, 15, 16, and 17; | 6,400.00
Sec. 18, lots 1 to 4, inclusive, E½, and E½W½; | 637.52
Sec. 19, lots 1 to 4, inclusive, E½, and E½W½; | 637.44
Secs. 20, 21, 22, 23, 24, 25, 26, 27, 28, and 29; | 6,400.00
Sec. 30, lots 1 to 4, inclusive, E½, and E½W½; | 637.56
Sec. 31, lots 1 to 4, inclusive, E½, and E½W½; | 638.92
Sec. 32; (State Surface and Subsurface) | 640.00
Secs. 33 and 34; | 1,280.00
Sec. 35; (State Surface) | 640.00
Sec. 36 (State Surface and Subsurface) | 640.00
T. 41 N., R. 6 E.,
Secs. 1 to 36, inclusive (unsurveyed) | 23,027.00
T. 41 N., R. 7 E.,
Sec. 3, SW¼NW¼, SW¼, W½SE¼, and SE¼SE¼; | 320.00
Sec. 4, lots 3 and 4, S½N½, and S½; | 560.49
Sec. 5, lots 1 to 4, inclusive, S½N½, and S½; | 639.86
Sec. 6, lots 1 to 7, inclusive, S½NE¼, SE¼NW¼, E½SW¼, and SE¼; | 630.78
Sec. 7, lots 1 to 4, inclusive, E½, and E½W½; | 632.74
Secs. 8, 9 and 10; | 1,920.00
Sec. 11, S½NE¼, W½, and SE¼; | 560.00
Sec. 12, W½SW¼ and SE¼SW¼; | 120.00
Secs. 13, 14, 15, 16, and 17; | 3,200.00
Sec. 18, lots 1 to 4, inclusive, E½, and E½W½; | 633.63
Sec. 19, lots 1 to 4, inclusive, E½, and E½W½; | 634.74
Secs. 20, 21, 22, 23, 24, 25, 26, 27, 28, and 29; | 6,400.00
Sec. 30, lots 1 to 4, inclusive, E½, and E½W½; | 635.56
Sec. 31, lots 1 to 4, inclusive, E½, and E½W½; | 638.02
Sec. 32, 33, 34, 35, and 36 | 3,200.00
T. 41 N., R. 8 E.,
Sec. 18, lots 1 to 4, inclusive, SE¼NW¼, E½SW¼, and SW¼SE¼; | 317.40
Sec. 19, lots 1 to 4, inclusive, W½NE¼, E½W½, and SE¼; | 558.20
Sec. 20, SE¼NE¼, E½SW¼, SW¼SW¼, and SE¼; | 320.00
Sec. 21, SW¼NW¼, SW¼, W½SE¼, and SE¼SE¼; | 320.00
Secs. 28 and 29; | 1,280.00
Sec. 30, lots 1 to 4, inclusive, E½, and E½W½; | 638.80
Sec. 31, lots 1 to 4, inclusive, E½, and E½W½; | 639.60
Sec. 32 (State Surface and Subsurface) | 640.00
T. 42 N., R. 3 E.,
Sec. 36; lots 1 to 4, inclusive, and S½ | 471.84
T. 42 N., R. 4 E.,
Sec. 31, lots 1 to 6, inclusive, E½SW¼, and SE¼; | 470.30
Sec. 32, lots 1 to 4, inclusive, and S½; | 471.28
Sec. 33, lots 1 to 4, inclusive, and S½; | 471.96
Sec. 34, lots 1 to 4, inclusive, and S½; | 472.76
Sec. 35, lots 1 to 4, inclusive, and S½; | 474.00
Sec. 36, lots 1 to 4, inclusive, and S½ | 474.80
T. 42 N., R. 5 E.,
Sec. 31, lots 1 to 6, inclusive, E½SW¼, and SE¼; | 471.27
Sec. 32, lots 1 to 4, inclusive, and S½; | 476.12
Sec. 33, S½N½ (unsurveyed) and S½ (unsurveyed); | 477.00
Sec. 34, S½N½ (unsurveyed) and S½ (unsurveyed); | 477.00
Sec. 35, S½N½ (unsurveyed) and S½ (unsurveyed); | 476.00
Sec. 36, S½N½ (unsurveyed) and S½ (unsurveyed); | 476.80
T. 42 N., R. 6 E.,
Sec. 31, S½N½ (unsurveyed) and S½ (unsurveyed); | 473.00
Sec. 32, lots 1 to 4, inclusive, and S½; | 476.48
Sec. 33, S½N½ (unsurveyed) and S½ (unsurveyed); | 478.00
Sec. 34, S½N½ (unsurveyed) and S½ (unsurveyed); | 479.00
Sec. 35, S½N½ (unsurveyed) and S½ (unsurveyed); | 480.00
Sec. 36, lots 1 to 4, inclusive, and S½ (State Surface and Subsurface) | 481.68
T. 42 N., R. 7 E.,
Sec. 31, lots 3 to 6, inclusive, E½SW¼, and SE¼; | 393.55
Sec. 32, S½SW¼ | 80.00

The areas described aggregate 299,952.41 acres in Coconino County. All lands are Federally owned surface and subsurface unless otherwise noted.

For a period of 2 years from the date of publication of this notice in the Federal Register, the lands will be segregated from location and entry under the general lands laws, including the mining laws, but not the mineral leasing laws, subject to valid existing rights, unless the proposal is canceled or unless the withdrawal is finalized prior to the end of the segregation period.

Existing uses of the segregated lands may be continued in accordance with their terms except for the location or relocation of mining claims during the pendency of the 2-year segregative period, including but not limited to livestock grazing, legal ingress and egress to any valid mining claims and patented claims that may exist, rights-of-way, access to non-Federal lands and interests in lands, current recreational uses, and commercial uses being conducted under special use permits.

Dated: August 3, 2000.
Roger G. Taylor,
Arizona Strip Field Manager.

[FR Doc. 00-20678 Filed 8-14-00; 8:45 am]

BILLING CODE 4310-32-P